SMALL BUSINESS ADMINISTRATION

[Declaration of Disaster #3393]

State of Missouri; (Amendment #2)

In accordance with information received from the Federal Emergency Management Agency, dated April 9, 2002 the above numbered declaration is hereby amended to extend the deadline for filing applications for physical damages as a result of this disaster to April 22, 2002.

All other information remains the same, i.e., the deadline for filing applications for economic injury is November 7, 2002.

(Catalog of Federal Domestic Assistance Program Nos. 59002 and 59008)
Dated: April 11, 2002.
Allan I. Hoberman,
Acting Associate Administrator for Disaster Assistance.

[FR Doc. 02-9538 Filed 4-18-02; 8:45 am]

BILLING CODE 8025-01-P